COMMISSION ON CIVIL RIGHTS

Agenda and Notice of Public Meeting of the Ohio Advisory Committee

Notice is hereby given, pursuant to the provisions of the rules and regulations of the U.S. Commission on Civil Rights that a conference call of the Ohio Advisory Committee will convene at 1 p.m. and adjourn at 3 p.m., Friday, September 16, 2005. The purpose of the conference call is to provide orientation to new members, approve the report “Hate Crime in Ohio Revisited,” and plan future activities.

This conference call is available to the public through the following call-in number: 1-800-473-7796, contact name: Lynwood Battle. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and contact name.

To ensure that the Commission secures an appropriate number of lines for the public, persons are asked to register by contacting Constance M. Davis, Regional Director of the Midwestern Regional Office, U.S. Commission on Civil Rights at (312) 353-8311, (TDD 312-353-8362), by 4 p.m. on Wednesday, September 14, 2005.

The meeting will be conducted pursuant to the provisions of the rules and regulations of the Commission.

Dated at Washington, DC, August 25, 2005.
Ivy L. Davis,
Acting Chief, Regional Programs Coordination Unit.

[FR Doc. 05-17620 Filed 9-2-05; 8:45 am]

BILLING CODE 6335-01-P